DEPARTMENT OF THE TREASURY

Submission for OMB Review; Comment Request

March 22, 2005.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 28, 2005, to be assured of consideration.

Financial Crimes Enforcement Network (FinCEN)

OMB Number: 1505-0184.

Form Number: None.

Type of Review: Extension.

Title: Correspondent Accounts for Foreign Shell Banks; Record Keeping and Termination of Correspondent Accounts.

Description: These rules prohibit domestic financial institutions from maintaining correspondent accounts with foreign shell banks and require such institutions to maintain records of the owners, and agents, for service of legal process of foreign banks.

Respondents: Business or other for-profit, not-for-profit institutions.

Estimated Number of Respondents/Recordkeepers: 9,000.

Estimated Burden Hours Per Respondent/Recordkeeper: 34 hours.

Frequency of Response: On occasion, biennially.

Estimated Total Reporting/Recordkeeping Burden: 306,000 hours.

Clearance Officer: Steve Rudzinski, (703) 905-3845, Financial Crimes Enforcement Network, 2070 Chain Bridge Road, Suite 200, Vienna, VA 22182.

OMB Reviewer: Joseph F. Lackey, Jr., (202) 395-7316, Office of Management and Budget, Room 10235, New Executive Office Building, Washington, DC 20503.

Lois K. Holland,
Treasury PRA Clearance Officer.

[FR Doc. 05-6091 Filed 3-28-05; 8:45 am]

BILLING CODE 4810-02-P